DEPARTMENT OF HEALTH AND HUMAN SERVICES

Substance Abuse and Mental Health Services Administration

Fiscal Year (FY) 2009 Funding Opportunity

AGENCY: Substance Abuse and Mental Health Services Administration, HHS.

ACTION: Notice of intent to award a Single Source Grant to Case Management, Inc. (CMI), Memphis, TN.

SUMMARY: This notice is to inform the public that the Substance Abuse and Mental Health Services Administration (SAMHSA) intends to award approximately $500,000 (total costs) per year for up to two years to Case Management, Inc. (CMI), Memphis, TN. This is not a formal request for applications. Assistance will be provided only to Case Management, Inc. (CMI) based on the receipt of a satisfactory application that is approved by an independent review group.

Funding Opportunity Title: Services Grant Program for Residential Treatment for Pregnant and Postpartum Women—Babylove II; TI-09-009.

Catalog of Federal Domestic Assistance (CFDA) Number: 93.243.

Authority: Section 508 of the Public Health Service Act, as amended.

Justification: Only Case Management, Inc. (CMI) is eligible to apply. The Substance Abuse and Mental Health Services Administration (SAMHSA) is seeking to award a single source grant to Case Management, Inc. (CMI) to carry out the remainder of the CSAT-funded FY 2008 PPW Babylove II Project.

Midtown Mental Health Center (MMHC), the recipient of an FY 2008 CSAT PPW grant award, notified SAMHSA that it: had ceased business; had been recently acquired by Case Management, Inc. (CMI); and transferred its contacts and patients to CMI effective September 16, 2008. Furthermore, CMI had assumed all of MMHC's existing obligations under patient care contracts and/or grants. This transfer included relinquishing the FY 2008 CSAT PPW grant award issued on September 1, 2008, and transferring all associated patient services provided by the SAMHSA/CSAT grant-funded Babylove II Program.

The Babylove II PPW Project is currently the only program in West Tennessee that provides specialized long-term residential treatment services for pregnant and postpartum women with co-occurring disorders, where the children can reside in the residential treatment facility with their mothers.

CMI has been approved by SAMHSA/CSAT Grants Management as the replacement grantee for the remainder of the current budget period (12/16/08-9/29/09). According to the Awarding Agency Grants Administration Manual (AAGAM), as a replacement grantee, CMI is not automatically approved for the future budget years (i.e., years 2 and 3). This sole source grant will cover the future budget years of this 3 year grant program.

Contact: Shelly Hara, Substance Abuse and Mental Health Services Administration, 1 Choke Cherry Road, Room 8-1081, Rockville, MD 20857; telephone: (240) 276-2321; e-mail: shelly.hara@samhsa.hhs.gov.

Toian Vaughn,
SAMHSA Committee Management Officer.

[FR Doc. E9-8053 Filed 4-8-09; 8:45 am]

BILLING CODE 4162-20-P